ENVIRONMENTAL PROTECTION AGENCY

[EPA-HQ-OW-2003-0026; FRL-FRL-9989-52-OEI]

Information Collection Request Submitted to OMB for Review and Approval; Comment Request; National Water Quality Inventory Reports (Renewal)

AGENCY: Environmental Protection Agency (EPA).

ACTION: Notice.

SUMMARY: The Environmental Protection Agency (EPA) has submitted an information collection request (ICR), National Water Quality Inventory Reports (EPA ICR Number 1560.12, OMB Control Number 2040-0071) to the Office of Management and Budget (OMB) for review and approval in accordance with the Paperwork Reduction Act. This is a proposed extension of the ICR, which is currently approved through March 31, 2019. Public comments were previously requested via the Federal Register on August 30, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 22, 2019.

ADDRESSES: Submit your comments, referencing Docket ID No. EPA-HQ-OW-2003-0026, to (1) EPA online using www.regulations.gov (our preferred method), by email to OW-Docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Cynthia N. Johnson, Watershed Restoration, Assessment and Protection Division (WRAPD), Office of Water, Mail Code: 4503T, Environmental Protection Agency, 1200 Pennsylvania Ave. NW, Washington, DC 20460; telephone number: 202-566-1679; fax number: 202-566-1336; email address: Johnson.CynthiaN@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Clean Water Act Section 305(b) reports contain information on whether waters assessed by a state meet the state's water quality standards, and when waters are impaired, the pollutants and potential sources affecting water quality. This information helps States and the public track progress in addressing water pollution. Section 303(d) of the Clean Water Act requires States to identify and rank waters that cannot meet water quality standards (WQS) following the implementation of technology-based controls. Under Section 303(d), States are also required to establish total maximum daily loads (TMDLs) for listed waters not meeting standards because of pollutant discharges. In developing the Section 303(d) lists, States are required to consider various sources of water quality related data and information, including the Section 305(b) State water quality reports. Section 106(e) requires that states annually update monitoring data and use it in their Section 305(b) report. Section 314(a) requires states to report on the condition of their publicly owned lakes within the Section 305(b) report.

During the period covered by this ICR renewal, respondents will: Complete their 2020 Section 305(b) reports and 2020 Section 303(d) lists; complete their 2022 Section 305(b) reports and 2022 Section 303(d) lists; transmit annual electronic updates of ambient monitoring data via the Water Quality Exchange; and continue to develop TMDLs according to their established schedules. EPA will prepare biennial updates on assessed and impaired waters for Congress and the public for the 2020 reporting cycle and for the 2022 cycle, and EPA will review 303(d) list and TMDL submissions from respondents.

Form numbers: None.

Respondents/affected entities: Entities potentially affected by this action are States, Territories and Tribes with Clean Water Act (CWA) responsibilities.

Respondent's obligation to respond: Mandatory: Integrated Water Quality Inventory Reports (Clean Water Act Sections 305(b), 303(d), 314(a), and 106(e)).

Estimated number of respondents: 59 (total).

Frequency of response: Biennial.

Total estimated burden: 3,718,130 (per year) hours. Burden is defined at 5 CFR 1320.03(b).

Total estimated cost: $211,716,534 (per year), includes $0 annualized capital or operation & maintenance costs.

Changes in estimates: There is an estimated decrease of 21,887 of total burden hours per year. EPA has completed phase 1 of the Water Quality Framework, which is a new way of integrating EPA's data and information systems to more effectively support reporting and tracking water quality protection and restoration actions. Phase 1 streamlined water quality assessment and reporting by reducing transactions associated with paper copy reviews and increasing electronic data exchange. The system to support this new electronic reporting was released to support the 2018 reporting cycle in April of 2018. EPA estimates a reduction of 10-50% on specific agency and respondent activities aimed to be improved from this new reporting system, and these reductions are explained within the supporting statement.

Courtney Kerwin,
Director of Regulatory Support Division.

[FR Doc. 2019-05512 Filed 3-21-19; 8:45 am]

BILLING CODE 6560-50-P